DEPARTMENT OF ENERGY

Federal Energy Regulatory Commission

[Docket No. CP21-2-000]

Southern Star Central Gas Pipeline, Inc.; Notice of Schedule for the Preparation of an Environmental Assessment for the Lines DT and DS Replacement Project Amendment

On October 2, 2020, Southern Star Central Gas Pipeline, Inc. (Southern Star) filed an application in Docket No. CP21-2-000 requesting an amendment to the Federal Energy Regulatory Commission's (Commission or FERC) authorization pursuant to Section 7(b) of the Natural Gas Act issued on December 19, 2019, in Docket No. CP19-31-000. The proposed project is known as the Lines DT and DS Replacement Project Amendment (Project). The purpose of this Project is to modify the previous authorization (CP19-31-000) to grant Southern Star's proposed abandonment of certain natural gas pipeline facilities in-place rather than by removal, as previously proposed.

On October 7, 2020, the Commission issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA: December 28, 2020

90-day Federal Authorization Decision Deadline: March 28, 2021

If a schedule change becomes necessary, additional notice will be provided so that the relevant agencies are kept informed of the Project's progress.

Project Description

The Project would involve the abandonment in-place of the 31.8-mile-long, 26-inch-diameter Line DT and the 31.4-mile-long, 20-inch-diameter Line DS, rather than abandonment by removal, which was authorized in Docket No. CP19-31-000. The Project is located in Anderson and Franklin Counties, Kansas.

Background

On October 27, 2020, the Commission issued a Notice of Scoping Period Requesting Comments on Environmental Issues for the Proposed Lines DT and DS Replacement Project Amendment and Notice of Public Scoping Session. The Notice of Scoping was sent to affected landowners; federal, state, and local government agencies; elected officials; environmental and public interest groups; Native American tribes; other interested parties; and local libraries and newspapers. In response to the Notice of Scoping, the Commission received a comment from a landowner who requested that Southern Star abandon the pipeline by removal on his land, as originally proposed. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-2-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 24, 2020.
Kimberly D. Bose,
Secretary.

[FR Doc. 2020-26454 Filed 11-30-20; 8:45 am]

BILLING CODE 6717-01-P